DEPARTMENT OF COMMERCE

National Oceanic and Atmospheric Administration

[RTID 0648-XC011]

Marine Mammals; File No. 21585

AGENCY: National Marine Fisheries Service (NMFS), National Oceanic and Atmospheric Administration (NOAA), Commerce.

ACTION: Notice; receipt of application for permit amendment.

SUMMARY: Notice is hereby given that Oregon State University, Marine Mammal Institute, 2030 Southeast Marine Science Drive, Newport, OR 97365 (Responsible Party: Lisa Ballance, Ph.D.) has applied for an amendment to Scientific Research Permit No. 21585-01.

DATES: Written, telefaxed, or email comments must be received on or before June 9, 2022.

ADDRESSES: The application and related documents are available for review by selecting “Records Open for Public Comment” from the “Features” box on the Applications and Permits for Protected Species (APPS) home page, https://apps.nmfs.noaa.gov, and then selecting File No. 21585 from the list of available applications. These documents are also available upon written request via email to NMFS.Pr1Comments@noaa.gov.

Written comments on this application should be submitted via email to NMFS.Pr1Comments@noaa.gov. Please include File No. 21585 in the subject line of the email comment.

Those individuals requesting a public hearing should submit a written request via email to NMFS.Pr1Comments@noaa.gov. The request should set forth the specific reasons why a hearing on this application would be appropriate.

FOR FURTHER INFORMATION CONTACT: Shasta McClenahan, Ph.D., or Amy Hapeman, (301)427-8401.

SUPPLEMENTARY INFORMATION: The subject amendment to Permit No. 21585-02 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR parts 222-226), and the Fur Seal Act of 1966, as amended (16 U.S.C. 1151 et seq.).

Permit No. 21585, issued on December 20, 2018 (84 FR 4441; February 15, 2019), authorizes the Permit Holder to conduct research on 67 species of marine mammals including the following endangered or threatened species, stocks, or distinct population segment (DPS)of cetaceans: Beluga (Delphinapterus leucas; Cook Inlet DPS), blue (Balaenoptera musculus), bowhead (Balaena mysticetes), false killer (Pseudorca crassidens; Main Hawaiian Islands Insular DPS), fin (Balaenoptera physalus), gray (Eschrichtius robustus; Western North Pacific DPS), humpback (Megaptera novaeangliae; Arabian Sea, Cape Verde Islands/Northwest Africa, Central America, Mexico, and Western North Pacific DPSs), killer (Orcinus orca; Southern Resident DPS), North Pacific right (Eubalaena japonica), sei (Balaenoptera. borealis), Southern right (E. australis), and sperm (Physeter macrocephalus) whales. Authorized research may occur during vessel and manned aerial surveys including observation, photography, passive acoustic recording, echosounders for prey mapping, and collection of sloughed skin. The permit also authorizes biopsy sampling and deep-implant tagging of some species. The Permit Holder requests to increase the annual number of takes for the currently permitted vessel surveys and biopsy sampling to assess the distribution and abundance of cetaceans in the Northern California Current in California and Oregon. In addition, the Permit Holder is requesting to add biopsy sampling as a procedure for 26 species currently authorized only for Level B harassment during surveys. See the take table for specific take number changes requested by species. No changes to the currently permitted objectives, methods, or number of deep-implant tagging take numbers are proposed. The permit expires on December 31, 2023.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: May 4, 2022.
Julia M. Harrison,
Chief, Permits and Conservation Division, Office of Protected Resources, National Marine Fisheries Service.

[FR Doc. 2022-10028 Filed 5-9-22; 8:45 am]

BILLING CODE 3510-22-P